DEPARTMENT OF HOMELAND SECURITY

United States Coast Guard

[Docket No. USCG-2009-0761]

Cook Inlet Regional Citizen's Advisory Committee; Charter Renewal

AGENCY: Coast Guard, DHS.

ACTION: Notice of Recertification.

SUMMARY: The Coast Guard has recertified the Cook Inlet Regional Citizen's Advisory Council for the period covering September 1, 2009, through August 31, 2010. Under the Oil Terminal and Oil Tanker Environmental Oversight Act of 1990, the Coast Guard may certify on an annual basis an alternative voluntary advisory group in lieu of a regional citizens' advisory council for Cook Inlet, Alaska. This advisory group monitors the activities of terminal facilities and crude oil tankers under the Cook Inlet Program established by the statute.

DATES: The Cook Inlet Regional Citizen's Advisory Council is certified through August 31, 2010.

ADDRESSES: You may request a copy of the recertification letter by writing to Commander, Seventeenth Coast Guard District (dpi), P.O. Box 25517, Juneau, AK 99802-5517; or by calling 907-463-2821.

FOR FURTHER INFORMATION CONTACT: Lieutenant-Commander Ken Phillips, Seventeenth Coast Guard District (dpi), telephone 907-463-2821.

SUPPLEMENTARY INFORMATION:

Background and Purpose

On September 1, 2008, the Coast Guard recertified the Cook Inlet Regional Citizen's Advisory Council through August 31, 2009 (73 FR 57127). Under the Oil Terminal and Oil Tanker Environmental Oversight Act of 1990 (33 U.S.C. 2732), the Coast Guard may certify, on an annual basis, an alternative voluntary advisory group in lieu of a regional citizens' advisory council for Cook Inlet, Alaska. This advisory group monitors the activities of terminal facilities and crude oil tankers under the Cook Inlet Program established by Congress, 33 U.S.C. 2732 (b).

On September 16, 2002, the Coast Guard published a notice of policy on revised recertification procedures for alternative voluntary advisory groups in lieu of councils at Cook Inlet, Alaska (67 FR 58440). This revised policy indicated that Cook Inlet Regional Citizen's Advisory Council recertification in 2009 need only submit a streamlined application and public comments would not be solicited prior to that recertification.

Dated: August 14, 2009.
Christopher C. Colvin,
Rear Admiral, U.S. Coast Guard, Commander, Seventeenth Coast Guard District.

[FR Doc. E9-21262 Filed 9-2-09; 8:45 am]

BILLING CODE 4910-15-P